DEPARTMENT OF ENERGY

Federal Energy Regulatory Commission

[Project No. 14495-000]

Archon Energy 1, Inc.; Notice of Preliminary Permit Application Accepted for Filing and Soliciting Comments, Motions To Intervene, and Competing Applications

On January 28, 2013, the Archon Energy 1, Inc., filed an application for a preliminary permit, pursuant to section 4(f) of the Federal Power Act (FPA), proposing to study the feasibility of the Laguna Dam Hydroelectric Project (Laguna Dam Project or project) to be located on the Colorado River, in Imperial County, California, near the city of Yuma, Yuma County, Arizona. The sole purpose of a preliminary permit, if issued, is to grant the permit holder priority to file a license application during the permit term. A preliminary permit does not authorize the permit holder to perform any land-disturbing activities or otherwise enter upon lands or waters owned by others without the owners' express permission.

The proposed project has two installation option alternatives; an in-stream method and a short diversion method. The in-stream option would consist of the following: (1) A gated water intake canal; (2) a 330-foot-long diversion canal; (3) a 30-foot-wide concrete diversion approximately 1,300 feet in length; (4) a 50-by-40-foot powerhouse and turbine structure enclosing one Kaplan turbine and generator; and (5) appurtenant facilities. The proposed project would have a total installed capacity of 2.2 megawatt and generate an estimated average annual energy production of 9,850 megawatt-hours by diverting existing stream flow into the diversion canal.

Applicant Contact: Mr. Paul Grist, Archon Energy 1, Inc., 101 E. Kennedy Blvd., Suite 2800, Tampa, Florida 33602, phone: (403) 618-2018.

FERC Contact: Corey Vezina; phone: (202) 502-8598, email: Corey.vezina@ferc.gov.

Deadline for filing comments, motions to intervene, competing applications (without notices of intent), or notices of intent to file competing applications: 60 days from the issuance of this notice. Competing applications and notices of intent must meet the requirements of 18 CFR 4.36. Comments, motions to intervene, notices of intent, and competing applications may be filed electronically via the Internet. See 18 CFR 385.2001(a)(1)(iii) and the instructions on the Commission's Web site http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov or toll free at 1-866-208-3676, or for TTY, (202) 502-8659. Although the Commission strongly encourages electronic filing, documents may also be paper-filed. To paper-file, mail an original and five copies to: Kimberly D. Bose, Secretary, Federal Energy Regulatory Commission, 888 First Street NE., Washington, DC 20426.

More information about this project, including a copy of the application, can be viewed or printed on the “eLibrary” link of Commission's Web site at http://www.ferc.gov/docs-filing/ elibrary.asp. Enter the docket number (P-14495) in the docket number field to access the document. For assistance, contact FERC Online Support.

Dated: April 2, 2013.
Kimberly D. Bose,
Secretary.

[FR Doc. 2013-08063 Filed 4-5-13; 8:45 am]

BILLING CODE 6717-01-P